DEPARTMENT OF TRANSPORTATION

Federal Aviation Administration

14 CFR Part 39

[Docket No. FAA-2010-0711; Directorate Identifier 2008-SW-25-AD; Amendment 39-16521; AD 2010-24-03]

RIN 2120-AA64

Airworthiness Directives; Robinson Helicopter Company (Robinson) Model R22, R22 Alpha, R22 Beta, and R22 Mariner Helicopters, and Model R44, and R44 II Helicopters

AGENCY: Federal Aviation Administration, DOT.

ACTION: Final rule.

SUMMARY: This amendment adopts a new airworthiness directive (AD) for Robinson Model R22, R22 Alpha, R22 Beta, and R22 Mariner helicopters, and Model R44 and R44 II helicopters. This AD requires visually inspecting each tail rotor (T/R) control pedal bearing block support (support) for a crack, measuring the thickness of each support, installing support safety tabs on certain supports, and replacing supports of a certain thickness during the next 2,200 hour overhaul. This amendment is prompted by two reports of Model R22 helicopters experiencing broken supports during flight, which resulted in the T/R control pedals becoming jammed. The actions specified by this AD are intended to prevent the supports from breaking, which can bind the T/R control pedals, resulting in a reduction of yaw control and subsequent loss of control of the helicopter.

DATES: Effective December 29, 2010.

The incorporation by reference of certain publications listed in the regulations is approved by the Director of the Federal Register as of December 29, 2010.

ADDRESSES: You may get the service information identified in this AD from Robinson Helicopter Company, 2901 Airport Drive, Torrance, California 90505, telephone (310) 539-0508, fax (310) 539-5198.

Examining the Docket: You may examine the docket that contains this AD, any comments, and other information on the Internet at http://www.regulations.gov or at the Docket Operations office, West Building Ground Floor, Room W12-140, 1200 New Jersey Avenue, SE., Washington, DC.

FOR FURTHER INFORMATION CONTACT: Eric D. Schrieber, Aviation Safety Engineer, telephone (562) 627-5348, fax (562) 627-5210, regarding Robinson Model R22 helicopters, or Fred Guerin, Aviation Safety Engineer, telephone (562) 627-5232, fax (562) 627-5210, regarding Robinson Model R44 helicopters, at the FAA, Los Angeles Aircraft Certification Office, Airframe Branch, 3960 Paramount Blvd., Lakewood, California 90712.

SUPPLEMENTARY INFORMATION: We issued an NPRM to amend 14 CFR part 39 to include an AD that would apply to certain serial-numbered helicopters on July 06, 2010. That NPRM was published in the Federal Register on July 15, 2010 (75 FR 41104). That action proposed to require for Robinson Model R22, R22 Alpha, R22 Beta, and R22 Mariner helicopters, serial numbers (S/N) 0002 through 3325, that have more than 2,200 hours total time-in-service (TIS); and for Model R44 and R44 II helicopters, S/N 0001 through 1200, that have more than 2,200 hours total TIS, the following within 100 hours TIS:

• Visually inspecting both A359-1 and A359-2 supports for a crack and replacing any cracked support before further flight;

• If not cracked, measuring the thickness of both supports and if less than 0.050-inch thick, installing support safety tabs, and at the next 2,200 hour TIS overhaul, replacing any support that is less than 0.050-inch thick with a support that is at least 0.050-inch thick.

We have reviewed Robinson Service Bulletins SB-63 and SB-97, both dated February 22, 2008, which describe procedures for inspecting both supports for a crack, and if no crack is found, measuring each support and installing safety tabs on supports that are less than 0.050-inch thick, and at the next 2,200 hour TIS overhaul, replacing certain supports.

We provided the public the opportunity to participate in developing this AD. We received no comments on the proposal or on the determination of the cost to the public. Therefore, we are adopting the actions as proposed.

This AD affects 4,524 helicopters of U.S. registry. It will take approximately 0.5 work hour to inspect and measure the supports. We estimate that 2,050 helicopters will require an additional 1 work hour to install both safety tabs; 6 work hours to replace both supports if cracked or broken or before overhaul, or 3 work hours to replace both supports as part of a 2,200 hours TIS overhaul, at an average labor rate of $85 per work hour. Required parts will cost approximately $20 per support if replacement is required. Based on these figures, we estimate that the total cost impact of this AD on U.S. operators is $1,101,830, assuming 1,538 (approximately 75% of the 2,050 helicopters) have both supports replaced during overhaul, and 512 helicopters (approximately 25% of the 2,050 helicopters) have both supports replaced before the next 2,200 hours TIS overhaul.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD. See the AD docket to examine the economic evaluation.

Authority for this Rulemaking

Title 49 of the United States Code specifies the FAA's authority to issue rules on aviation safety. Subtitle I, section 106 describes the authority of the FAA Administrator. Subtitle VII, Aviation Programs, describes in more detail the scope of the agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new AD:

2010-24-03 Robinson Helicopter Company: Amendment 39-16521; Docket No. FAA-2010-0711; Directorate Identifier 2008-SW-25-AD.

Applicability: Model R22, R22 Alpha, R22 Beta, and R22 Mariner helicopters, serial numbers (S/N) 0002 through 3325, that have more than 2,200 hours total time-in-service (TIS); and Model R44, and R44 II helicopters, S/N 0001 through 1200, that have more than 2,200 hours total TIS, certificated in any category.

Compliance: Required as indicated, unless accomplished previously.

To prevent the tail rotor (T/R) control pedal bearing block support (support) from breaking, which can bind the T/R control pedals, resulting in a reduction of yaw control and subsequent loss of control of the helicopter, accomplish the following:

(a) Within 100 hours TIS, visually inspect each A359-1 (left) and A359-2 (right) pedal support for a crack by referring to the figure in Robinson Helicopter Company (Robinson) Service Bulletin SB-97, dated February 22, 2008 (SB-97) for all Model R22 helicopters, and Robinson Service Bulletin SB-63, dated February 22, 2008 (SB-63) for all Model R44 helicopters.

(1) If you find a crack in a support, before further flight, replace the cracked support with an airworthy support that is at least 0.050-inch thick.

(2) For each uncracked support, measure the thickness of the support. If the support is less than 0.050-inch thick, before further flight, install a safety tab on the support in accordance with steps 4 and 5 of the Compliance Procedures section in SB-97 or SB-63, as appropriate for your model helicopter.

(b) At the next 2,200 hours TIS overhaul, replace any support that is less than 0.050-inch thick, with an airworthy support that is at least 0.050-inch thick.

(c) To request a different method of compliance or a different compliance time for this AD, follow the procedures in 14 CFR 39.19. Contact the Manager, Los Angeles Aircraft Certification Office, FAA, ATTN: Eric D. Schrieber, Aviation Safety Engineer, 3960 Paramount Blvd., Lakewood, California 90712, telephone (562) 627-5348, fax (562) 627-5210 (regarding Model R22 helicopters); or ATTN: Fred Guerin, Aviation Safety Engineer, telephone (562) 627-5232, fax (562) 627-5210 (regarding Model R44 helicopters) for information about previously approved alternative methods of compliance.

(d) The Joint Aircraft System/Component (JASC) Code is 6720: Tail Rotor Control System.

(e) The inspection and modification shall be done in accordance with the specified portions of Robinson Helicopter Company Service Bulletin SB-97 or SB-63, both dated February 22, 2008. The Director of the Federal Register approved this incorporation by reference in accordance with 5 U.S.C. 552(a) and 1 CFR part 51. Copies may be obtained from Robinson Helicopter Company, 2901 Airport Drive, Torrance, California 90505, telephone (310) 539-0508, fax (310) 539-5198. Copies may be inspected at the FAA, Office of the Regional Counsel, Southwest Region, 2601 Meacham Blvd., Room 663, Fort Worth, Texas or at the National Archives and Records Administration (NARA). For information on the availability of this material at NARA, call 202-741-6030, or go to: http://www.archives.gov/federal_register/code_of_federal_regulations/ibr_locations.html.

(f) This amendment becomes effective on December 29, 2010.

Issued in Fort Worth, Texas, on November 10, 2010.
Kim Smith,
Manager, Rotorcraft Directorate, Aircraft Certification Service.

[FR Doc. 2010-29203 Filed 11-23-10; 8:45 am]

BILLING CODE 4910-13-P